DEPARTMENT OF TRANSPORTATION

Federal Highway Administration

Notice of Final Federal Agency Actions on Proposed Highway in California

AGENCY: Federal Highway Administration (FHWA), Department of Transportation (DOT).

ACTION: Notice of limitation on claims for judicial review.

SUMMARY: The FHWA, on behalf of Caltrans, is issuing this notice to announce actions taken by Caltrans, that are final. The actions relate to a proposed highway project, on State Route (SR 37) between postmiles 2.9-6.2 in Sonoma County, postmiles 0.0-R7.4 in Solano County, and postmiles 0.0-0.2 in Napa County, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before August 21, 2023. If the Federal law that authorizes judicial review of a claim provides a time period of less than 150 days for filing such claim, then that shorter time period still applies.

FOR FURTHER INFORMATION CONTACT: For Caltrans: Maxwell Lammert, Office Chief, California Department of Transportation, 111 Grand Avenue, MS-8B, Oakland, CA 94612. Office hours: Monday through Friday 8 a.m.-5 p.m. Contact Information: Maxwell.Lammert@dot.ca.gov and (510) 506-9862.

SUPPLEMENTARY INFORMATION: Effective July 1, 2007, the Federal Highway Administration assigned, and the California Department of Transportation assumed environmental responsibilities for this project pursuant to 23 U.S.C. 327. Notice is hereby given that Caltrans has taken final agency actions subject to 23 U.S.C. 139(l)(1) by issuing licenses, permits, and approvals for the following highway project in the State of California: Caltrans, in partnership with the Metropolitan Transportation Commission (MTC) and the north bay partner agencies of Sonoma County Transportation Authority (SCTA), Solano Transportation Authority (STA), and Napa Valley Transportation Authority (NVTA), proposes the Sears Point to Mare Island Improvement Project to address existing recurring congestion along State Route (SR) 37 where the highway narrows to one lane in each direction between SR 121 and the Mare Island Interchange (approximately 10 miles). The selected alternative will widen SR 37 to provide four full-time lanes (two in each direction), widen the Tolay Creek Bridge, widen the Sonoma Creek Bridge, and provide 8-foot shoulders (except at Sonoma Creek Bridge which would have 4-foot shoulders). In each direction of SR 37 in the project limits, the existing lane would be converted to full-time High Occupancy Vehicle (HOV) lanes and the newly added lanes would be toll lanes. The actions by the Federal agencies, and the laws under which such actions were taken, are described in the Final Environmental Assessment (FEA) and Finding of No Significant Impact (FONSI), approved on February 8, 2023 and in other documents in the Caltrans project records. The FEA, FONSI, and other project records are available by contacting Caltrans at the addresses provided above. The Caltrans FEA and FONSI can be viewed and downloaded from the project website at https://dot.ca.gov/caltrans-near-me/district-4/d4-popular-links/d4-environmental-docs#district-wide.

This notice applies to all Federal agency decisions as of the issuance date of this notice and all laws under which such actions were taken, including but not limited to:

1. Council on Environmental Quality Regulations

2. National Environmental Policy Act (NEPA) of 1969 [42 U.S.C. 4321-4351]

3. Federal-Aid Highway Act of 1970 [23 U.S.C. 109 and 23 U.S.C. 128]

4. Clean Air Act Amendments of 1990 (CAAA) [42 U.S.C. 7401-7671(q)]

5. Clean Water Act of 1977 and 1987 (Section 404 and Section 401)

6. Section 106 of the National Historic Preservation Act of 1966, as amended

7. Historic Sites Act of 1935

8. Federal Water Pollution Control Act of 1972 (see Clean Water Act of 1977 & 1987)

9. Paleontological Resources Preservation Act of 2009 (PRPA)

10. Antiquities Act [54 U.S.C. 320301-320303]

11. Noise Control Act of 1972

12. Safe Drinking Water Act of 1944, as amended

13. Toxic Substances Control Act

14. Comprehensive Environmental Response, Compensation and Liability Act

15. Resource Conservation and Recovery Act (RCRA) of 1976

16. Endangered Species Act of 1973

17. Executive Order 11990, Protection of Wetlands

18. Executive Order 13112, Invasive Species

19. Executive Order 13186, Migratory Birds

20. Fish and Wildlife Coordination Act of 1934, as amended

21. Migratory Bird Treaty Act

22. Marine Mammal Protection Act

23. Water Bank Act Wetlands Mitigation Banks, ISTEA 1991, Sections 1006-1007

24. Wildflowers, Surface Transportation & Uniform Relocation Act of 1987 Section 130

25. Coastal Zone Management Act of 1972 (CZMA)

26. Coastal Zone Management Act Reauthorization Amendments of 1990

27. Executive Order 11988, Floodplain Management

28. Department of Transportation (DOT) Executive Order 5650.2—Floodplain Management and Protection (April 23, 1979)

29. Rivers and Harbors Appropriation Act of 1899, Sections 9 and 10

30. Title VI of the Civil Rights Act of 1964, as amended

31. Executive Order 12898, Federal Actions to Address Environmental Justice and Low-Income Populations

(Catalog of Federal Domestic Assistance Program Number 20.205, Highway Planning and Construction. The regulations implementing Executive Order 12372 regarding intergovernmental consultation on Federal programs and activities apply to this program.)

(Authority: 23 U.S.C. 139(l)(1))

Dated: March 16, 2023.
Antonio Johnson,
Director, Planning, Environment, and Right of Way, Federal Highway Administration, California Division.

[FR Doc. 2023-05830 Filed 3-21-23; 8:45 am]

BILLING CODE 4910-RY-P